SECURITIES AND EXCHANGE COMMISSION

[File No. 500-1]

DIAS Holding, Inc., EarthBlock Technologies, Inc., Ensurapet, Inc., FIIC Holdings, Inc., GeM Solutions, Inc., Gold Star Tutoring Services Inc., and GPS Industries, Inc.; Order of Suspension of Trading

November 14, 2012.

It appears to the Securities and Exchange Commission that there is a lack of current and accurate information concerning the securities of DIAS Holding, Inc. because it has not filed any periodic reports since the period ended September 30, 2009.

It appears to the Securities and Exchange Commission that there is a lack of current and accurate information concerning the securities of EarthBlock Technologies, Inc. because it has not filed any periodic reports since the period ended December 31, 2007.

It appears to the Securities and Exchange Commission that there is a lack of current and accurate information concerning the securities of Ensurapet, Inc. because it has not filed any periodic reports since the period ended December 31, 2008.

It appears to the Securities and Exchange Commission that there is a lack of current and accurate information concerning the securities of FIIC Holdings, Inc. because it has not filed any periodic reports since the period ended September 30, 2007.

It appears to the Securities and Exchange Commission that there is a lack of current and accurate information concerning the securities of Gold Star Tutoring Services, Inc. because it has not filed any periodic reports since the period ended September 30, 2009.

It appears to the Securities and Exchange Commission that there is a lack of current and accurate information concerning the securities of GeM Solutions, Inc. because it has not filed any periodic reports since the period ended March 31, 2007.

It appears to the Securities and Exchange Commission that there is a lack of current and accurate information concerning the securities of GPS Industries, Inc. because it has not filed any periodic reports since the period ended March 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EST on November 14, 2012, through 11:59 p.m. EST on November 28, 2012.

By the Commission.
Jill M. Peterson,
Assistant Secretary.

[FR Doc. 2012-28017 Filed 11-14-12; 11:15 am]

BILLING CODE 8011-01-P